DEPARTMENT OF JUSTICE

[AAG/A Order No. 251-2001]

Privacy Act of 1974; Notice of the Removal of a System of Records

Pursuant to the provisions of the Privacy Act of 1974 (5 U.S.C. 552a), the Office of Intelligence Policy and Review (OIPR), Department of Justice is removing a published Privacy Act system of records entitled “Domestic Security/Terrorism Investigations Records System (JUSTICE/OIPR-004).” This system notice was last published in the Federal Register on January 26, 1984 (49 CFR 3285).

JUSTICE/OIPR-004 is being removed because the records are not (nor have they ever been) retrieved by individual names or other personal identifiers. The records were filed and retrieved by entity/organization. Accordingly, there is no statutory requirement to publish a system notice, and the Domestic Security/Terrorism Investigations Records System notice is removed from the Department's compilation of Privacy Act systems. The Domestic Security/Terrorism Investigation function was transferred from OIPR to the Criminal Division in 1995. The OIPR's remaining records have been sent to the National Archives and Records Administration.

Dated: November 13, 2001.
Janis A. Sposato,
Acting Assistant Attorney General for Administration.

[FR Doc. 01-30158 Filed 12-4-01; 8:45 am]

BILLING CODE 4410-AW-M